DEPARTMENT OF TRANSPORTATION

Federal Highway Administration

[Docket No. FHWA-2024-0085]

Agency Information Collection Activities: Request for Comments for a New Information Collection; Withdrawal

AGENCY: Federal Highway Administration (FHWA), Department of Transportation (DOT).

ACTION: Notice; withdrawal.

SUMMARY: The FHWA is withdrawing the notice, “Agency Information Collection Activities: Request for Comments for a New Information Collection,” published in the Federal Register on December 31, 2024.

FOR FURTHER INFORMATION CONTACT: Jazmyne Lewis, (202) 366-2826/jazmyne.lewis@dot.gov; Department of Transportation, Federal Highway Administration, Office of Administration, 1200 New Jersey Avenue SE, Washington, DC 20590. Office hours are from 8 a.m. to 4 p.m., Monday through Friday, except Federal holidays.

SUPPLEMENTARY INFORMATION: The FHWA is withdrawing the notice published in the Federal Register on December 31, 2024, at 89 FR 107190 (FR Number 2024-31393).

Issued On: April 8, 2025.
Jazmyne Lewis,
Information Collection Officer.

[FR Doc. 2025-06213 Filed 4-10-25; 8:45 am]

BILLING CODE 4910-22-P